DEPARTMENT OF HOMELAND SECURITY

Coast Guard

33 CFR Part 117

[Docket No. USCG-2010-1073]

Drawbridge Operation Regulation; James River, Hopewell, VA

AGENCY: Coast Guard, DHS.

ACTION: Notice of temporary deviation from regulations.

SUMMARY: The Commander, Fifth Coast Guard District, has issued a temporary deviation from the regulations governing the operation of the SR 156 Benjamin Harrison Memorial Bridge, across the James River, mile 65.0, at Hopewell, VA. The deviation is necessary to facilitate mechanical repairs to the vertical lift span. This deviation allows the drawbridge to remain in the closed to navigation position.

DATES: This deviation is effective from 9 a.m. to 9 p.m. on December 16, 2010.

ADDRESSES: Documents mentioned in this preamble as being available in the docket USCG-2010-1073 and are available online by going to http://www.regulations.gov, inserting USCG-2010-1073 in the “Keywords” box, and then clicking “Search”. This material is also available for inspection or copying the Docket Management Facility (M-30), U.S. Department of Transportation, West Building Ground Floor, Room W12-140, 1200 New Jersey Avenue, SE., Washington, DC 20590, between 9 a.m. and 5 p.m., Monday through Friday, except Federal Holidays.

FOR FURTHER INFORMATION CONTACT: If you have questions on this rule, call or e-mail Mr. Bill H. Brazier, Bridge Management Specialist, Fifth Coast Guard District; telephone (757) 398-6422, e-mail Bill.H.Brazier@uscg.mil. If you have questions on reviewing the docket, call Renne V. Wright, Program Manager, Docket Operations, (202) 366-9826.

SUPPLEMENTARY INFORMATION: The Virginia Department of Transportation, who owns and operates this vertical-lift type bridge, has requested a temporary deviation from the current operating regulations set out in 33 CFR 117.5, which requires the bridge to open promptly and fully when a request to open is given. In the closed to navigation position the SR 156 Benjamin Harrison Memorial Bridge across the James River, mile 65.0, at Hopewell, VA has a vertical clearance of 50 feet above mean high water. The purpose of the deviation is to facilitate structural repairs.

Under this temporary deviation, the drawbridge will be maintained in the closed to navigation position to facilitate repairs to the skew couplings that keep the vertical lift portion of the bridge balanced. The lift span will be closed from 9 a.m. to 9 p.m. on December 16, 2010.

Typical vessel traffic on the James River includes a variety of vessels from freighters, tug and barge traffic, and recreational vessels. Vessels that can pass under the bridge without a bridge opening may continue to do so at anytime. There are no alternate routes for vessels transiting this section of the James River and the drawbridge will be unable to open in the event of an emergency.

The Coast Guard has carefully coordinated the restrictions with commercial and recreational waterway users. Additionally, the Coast Guard will inform unexpected users of the waterway through our Local and Broadcast Notice to Mariners of the closure periods for the bridge so that vessels can arrange their transits to minimize any impacts caused by the temporary deviation.

In accordance with 33 CFR 117.35(e), the draw must return to its original operating schedule immediately at the end of the designated time period. This deviation from the operating regulations is authorized under 33 CFR 117.35.

Dated: November 24, 2010.
Waverly W. Gregory, Jr.,
Chief, Bridge Administration Branch, Fifth Coast Guard District.

[FR Doc. 2010-30745 Filed 12-7-10; 8:45 am]

BILLING CODE 9110-04-P